DEPARTMENT OF COMMERCE

National Oceanic and Atmospheric Administration

RIN 0648-XC594

New England Fishery Management Council; Public Meeting

AGENCY: National Marine Fisheries Service (NMFS), National Oceanic and Atmospheric Administration (NOAA), Commerce.

ACTION: Notice; public meeting.

SUMMARY: The New England Fishery Management Council's (Council) Recreational Advisory Panel will meet to consider actions affecting New England fisheries in the exclusive economic zone (EEZ).

DATES: The two-day meeting will be held on Tuesday, April 16, 2013 beginning at 12 p.m. and Wednesday, April 17, 2013 beginning at 8:30 a.m.

ADDRESSES: Meeting address: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Tuesday, April 16, 2013, Beginning at 12 p.m.

The Groundfish Oversight Committee will meet to discuss several issues related to the Northeast Multispecies Fishery Management Plan. This will include a report from the Plan Development Team on catch reporting, as well as a progress report on issues related to the relative stock size of Gulf of Maine and Georges Bank haddock. Council staff will report on the feasibility of and progress on data analysis that would inform the development of Amendment 18. The Committee may also discuss recent sector operations plan exemption requests and may discuss a request for an exploration of the impact of climate change on status determination criteria and catch advice. If other business issues are raised, this will occur on the first day of the meeting.

Wednesday, April 17, 2013, Beginning at 8:30 a.m.

The Committee will devote the entire day to considering area management options recommended by the Closed Area Technical Team. These measures are intended to replace existing year round and rolling groundfish closures. Following review at the April Council meeting, these groundfish area management options would be consolidated with the habitat management options being proposed by the Habitat Oversight Committee and included as alternatives in Omnibus Habitat Amendment 2.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 25, 2013.
Tracey L. Thompson,
Acting Deputy Director, Office of Sustainable Fisheries, National Marine Fisheries Service.

[FR Doc. 2013-07187 Filed 3-27-13; 8:45 am]

BILLING CODE 3510-22-P